FEDERAL COMMUNICATIONS COMMISSION

47 CFR Part 73

[DA 00-1394; MM Docket No. 00-55; RM-9836]

Radio Broadcasting Services; Falconer and Fredonia, NY

AGENCY: Federal Communications Commission.

ACTION: Proposed rule; dismissal.

SUMMARY: The Commission, at the request of North Country Broadcasting, Inc., licensee of Station WCQA, Fredonia, NY, dismisses its petition to reallot Channel 243A from Fredonia to Falconer, NY, and modify Station WCQA's license accordingly. See 65 FR 17618, April 4, 2000.

FOR FURTHER INFORMATION CONTACT: Leslie K. Shapiro, Mass Media Bureau, (202) 418-2180.

SUPPLEMENTARY INFORMATION: This is a synopsis of the Commission's Report and Order, MM Docket No. 00-55, adopted June 14, 2000, and released June 23, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

Federal Communications Commission.
John A. Karousos,
Chief, Allocations Branch, Policy and Rules Division, Mass Media Bureau.

[FR Doc. 00-16868 Filed 7-3-00; 8:45 am]

BILLING CODE 6712-01-U